DEPARTMENT OF THE INTERIOR

National Park Service

[NPS-WASO-NAGPRA-NPS0038055; PPWOCRADN0-PCU00RP14.R50000]

Notice of Inventory Completion: Department of the Interior, Bureau of Land Management, Canyons of the Ancients Visitors Center and Museum, Dolores, CO

AGENCY: National Park Service, Interior.

ACTION: Notice.

SUMMARY: In accordance with the Native American Graves Protection and Repatriation Act (NAGPRA), the U.S. Department of the Interior, Bureau of Land Management, Canyons of the Ancients Visitors Center and Museum has completed an inventory of human remains and associated funerary objects and has determined that there is a cultural affiliation between the human remains and associated funerary objects and Indian Tribes or Native Hawaiian organizations in this notice. The human remains and associated funerary object were removed from San Miguel County, Colorado.

DATES: Repatriation of the human remains and associated funerary objects in this notice may occur on or after July 11, 2024.

ADDRESSES: Ray O'Neil, Monument Manager, Bureau of Land Management, Canyons of the Ancients National Monument, 27501 Highway 184, Dolores, CO 81323, telephone (303) 882-5600, email roneil@blm.gov.

SUPPLEMENTARY INFORMATION: This notice is published as part of the National Park Service's administrative responsibilities under NAGPRA. The determinations in this notice are the sole responsibility of the Canyons of the Ancients Visitors Center and Museum, Bureau of Land Management, Dolores, CO, and additional information on the determinations in this notice, including the results of consultation, can be found in its inventory or related records. The National Park Service is not responsible for the determinations in this notice.

Abstract of Information Available

Human remains representing, at least, one individual have been identified. The one associated funerary object is a bone awl. The human remains were removed from the burial site in San Miguel County, CO, in 1983 after the site (5SM790) had been vandalized sometime during the winter of 1982-1983. The burial appeared to be a cairn burial, comprised of about 20 sandstone cobbles and two groundstone slabs, within a rockshelter. A detailed assessment of the human remains was made by archaeologists in 1983 and in 1994, who determined the individual was of Native American descent. The human remains belong to an adult female. With the exception of the right arm and hand, one lumbar vertebra, and rib fragments, the upper portion of the body was completely missing. Based upon the burial context, as well as a radiocarbon date from charcoal included in the burial pit (A.D. 460 ± 140), the site is reasonably believed to be from, in archaeological terms, the late Archaic or Formative period.

Cultural Affiliation

Based on the information available and the results of consultation, cultural affiliation is reasonably identified by the geographical location of the human remains and associated funerary object described in this notice.

Determinations

The BLM Canyons of the Ancients Visitors Center and Museum has determined that:

• The human remains described in this notice represent the physical remains of one individual of Native American ancestry.

• The one object described in this notice is reasonably believed to have been placed intentionally with or near individual human remains at the time of death or later as part of the death rite or ceremony.

• There is a connection between the human remains and associated funerary objects described in this notice and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Southern Ute Indian Tribe of the Southern Ute Reservation, Colorado; Ute Indian Tribe of the Uintah & Ouray Reservation, Utah; Ute Mountain Ute Tribe; Ysleta del Sur Pueblo; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects in this notice to a requestor may occur on or after July 11, 2024. If competing requests for repatriation are received, the BLM Canyons of the Ancients Visitors Center and Museum must determine the most appropriate requestor prior to repatriation. Requests for joint repatriation of the human remains and associated funerary objects are considered a single request and not competing requests. The BLM Canyons of the Ancients Visitors Center and Museum is responsible for sending a copy of this notice to the Indian Tribes identified in this notice.

Authority: Native American Graves Protection and Repatriation Act, 25 U.S.C. 3003, and the implementing regulations, 43 CFR 10.10.

Dated: May 31, 2024.
Melanie O'Brien,
Manager, National NAGPRA Program.

[FR Doc. 2024-12711 Filed 6-10-24; 8:45 am]

BILLING CODE 4312-52-P